DEPARTMENT OF HEALTH AND HUMAN SERVICES

Administration for Children and Families

Submission for OMB Review; Comment Request

Title: Consultant and Evaluator Qualifications Form.

OMB No.: New collection.

Description: The Administration for Native Americans (ANA) Consultant and Evaluator Qualifications Form is used to collect information from prospective panel reviewers in compliance with 42 USC Section 2991a-1. The form will allow the Commissioner of ANA to select qualified people to review grant applications for: Social and Economic Development Strategies (SEDS), Native Language Preservation and Maintenance, and Environmental Regulatory Enhancement. The panel review process is a legislative mandate in the ANA grant funding process.

Respondents are drawn from the public with a legislatively required preference being given to those who are Native American, Native Alaskan, Native Hawaiian and other Pacific Islanders. These project evaluation panels review and rank applications.

Respondents: Tribal governments, native non-profits, tribal colleges & universities.

Annual Burden Estimates:

Instrument | Number of respondents | Number of responses per respondent | Average burden hours per response | Total burden hours
Consultant and Evaluator Qualifications Form | 300 | 1 | 1 | 300
Estimated Total Annual Burden Hours: 300.

Additional Information: Copies of the proposed collection may be obtained by writing to the Administration for Children and Families, Office of Administration, Office of Information Services, 370 L'Enfant Promenade, SW., Washington, DC 20447, Attn: ACF Reports Clearance Officer. E-mail: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Washington, DC, Attn: Desk Officer for ACF, E-mail: katherine t. astrich@omb.eop.gov.

Dated: March 25, 2004.
Robert Sargis,
Reports Clearance Officer.

[FR Doc. 04-7262 Filed 3-31-04; 8:45 am]

BILLING CODE 4184-01-M